DEPARTMENT OF JUSTICE

[OMB Number 1121-NEW]

Agency Information Collection Activities; Proposed Collection Comments Requested; New Collection: Survey of Law Enforcement Personnel in Schools (SLEPS)

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until April 22, 2019.

FOR FURTHER INFORMATION CONTACT: If you have additional comments especially on the estimated public burden or associated response time, suggestions, or need a copy of the proposed information collection instrument with instructions or additional information, please contact Elizabeth Davis, Statistician, Law Enforcement Statistics, Bureau of Justice Statistics, 810 Seventh Street NW, Washington, DC 20531 (email: Elizabeth.Davis@usdoj.gov; telephone: 202-305-2667).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: Survey of Law Enforcement Personnel in Schools (SLEPS).

(3) The agency form number, if any, and the applicable component of the Department sponsoring the collection: The form number for the agency survey is SLEPS-1; the form number for the officer survey is SLEPS-2. The applicable component within the Department of Justice is the Bureau of Justice Statistics, in the Office of Justice Programs.

(4) Affected public who will be asked or required to respond, as well as a brief abstract: Respondents will be law enforcement agencies (LEAs), including school-based police; municipal, county, and regional police; sheriff's offices; and school resource officers (SROs) employed by these LEAs.

SLEPS will examine law enforcement involvement in ensuring safety in schools by conducting both an agency-level and an officer-level survey. The agency-level survey asks about departmental policies and agreements with schools; funding sources and the number/type of schools served; and SRO recruitment, training, and supervision. The officer-level survey asks SROs about their experience as a law enforcement officer, training, activities in schools, and characteristics of their primary assignment. SLEPS will provide key national statistics to fill the knowledge gap surrounding law enforcement in schools and further the school safety agenda.

(5) An estimate of the total number of respondents and the amount of time estimated for an average respondent to respond: An agency-level survey will be sent to approximately 1,982 LEA respondents. The expected burden placed on these respondents is about 30 minutes per respondent. These respondents will also receive an officer roster form which has an expected burden of about 10 minutes per respondent. It is expected that approximately 1,367 agencies will complete the roster form. A point of contact (POC) at these 1,367 agencies will be asked to distribute an officer-level survey to approximately 4,137 school resource officers. The expected burden is about 20 minutes per POC to distribute survey materials and about 30 minutes per officer to complete the survey.

(6) An estimate of the total public burden (in hours) associated with the collection: The total respondent burden is approximately 3,743 burden hours.

If additional information is required contact: Melody Braswell, Department Clearance Officer, United States Department of Justice, Justice Management Division, Policy and Planning Staff, Two Constitution Square, 145 N Street NE, 3E.405B, Washington, DC 20530.

Dated: February 15, 2019.
Melody Braswell,
Department Clearance Officer for PRA, U.S. Department of Justice.

[FR Doc. 2019-02993 Filed 2-20-19; 8:45 am]

BILLING CODE 4410-18-P